DEPARTMENT OF COMMERCE

International Trade Administration

[A-427-818, A-428-828, A-421-808, A-412-820]

Low Enriched Uranium From France, Germany, The Netherlands, and the United Kingdom: Notice of Extension of Preliminary Antidumping Duty Determinations

AGENCY: Import Administration, International Trade Administration, Department of Commerce.

ACTION: Notice of extension of preliminary antidumping duty determinations.

EFFECTIVE DATE: April 26, 2001.

FOR FURTHER INFORMATION CONTACT: James Terpstra or Gabriel Adler at (202) 482-3965 and (202) 482-3813, respectively; Import Administration, International Trade Administration, U.S. Department of Commerce, 14th Street and Constitution Avenue NW., Washington, DC 20230.

Statutory Time Limits

Section 733(b)(1)(A) of the Tariff Act of 1930, as amended (the Act), requires the Department of Commerce (the Department) to issue the preliminary determination of an antidumping duty investigation within 140 days after the date of initiation. However, if the case is extraordinarily complicated and additional time is necessary to make the preliminary determination, and the parties concerned are cooperating in the investigation, section 733(c)(1)(B) of the Act allows the Department to extend the time limit for the preliminary determination until not later than 190 days after the date of initiation.

Background

On December 27, 2000, the Department initiated the above-referenced investigations. See Notice of Initiation of Antidumping Duty Investigations: Low Enriched Uranium From France, Germany, the Netherlands, and the United Kingdom, 66 FR 1080 (January 5, 2001). The preliminary determinations are currently due no later than May 16, 2001.

Extension of Preliminary Determinations

The Department determines that the parties concerned are cooperating, that these investigations are extraordinarily complicated, and that additional time is necessary to make the preliminary determinations. Therefore, we are postponing the deadline for issuing these determinations until July 5, 2001. See Decision Memorandum from Melissa Skinner to Holly A. Kuga, dated April 18, 2001, which is on file in the Central Records Unit, B-099 of the main Commerce Building. We intend to issue the final determinations no later than 75 days after the date of these preliminary determinations in accordance with section 735(a)(1) of the Act.

This extension is issued and published in accordance with section 733(c) of the Act and 19 CFR 351.205(b)(2). Effective January 20, 2001, Bernard T. Carreau is fulfilling the duties of the Assistant Secretary for Import Administration.

Dated: April 19, 2001.
Bernard T. Carreau,
Deputy Assistant Secretary, Import Administration.

[FR Doc. 01-10439 Filed 4-25-01; 8:45 am]

BILLING CODE 3510-DS-P